NATIONAL FOUNDATION ON THE ARTS AND THE HUMANITIES

National Endowment for the Humanities

Meetings of Humanities Panel

AGENCY: National Endowment for the Humanities, National Foundation on the Arts and the Humanities.

ACTION: Notice of meetings.

SUMMARY: The National Endowment for the Humanities will hold nine meetings of the Humanities Panel, a federal advisory committee, during September, 2016. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at the National Endowment for the Humanities at Constitution Center at 400 7th Street SW., Washington, DC 20506.

FOR FURTHER INFORMATION CONTACT: Elizabeth Voyatzis, Committee Management Officer, 400 7th Street SW., Room 4060, Washington, DC 20506; (202)606-8322; evoyatzis@neh.gov.

SUPPLEMENTARY INFORMATION: Pursuant to section 10(a)(2) of the Federal Advisory Committee Act (5 U.S.C. App.), notice is hereby given of the following meetings:

1. Date: September 1, 2016.

This meeting will discuss applications on the subject of International Topics for Digital Projects for the Public: Discovery Grants, submitted to the Division of Public Programs.

2. Date: September 6, 2016.

This meeting will discuss applications on the subjects of Arts and Culture for Digital Projects for the Public: Discovery Grants, submitted to the Division of Public Programs.

3. Date: September 7, 2016.

This meeting will discuss applications on the subjects of Arts and Culture for Digital Projects for the Public: Production Grants, submitted to the Division of Public Programs.

4. Date: September 8, 2016.

This meeting will discuss applications on the subject of U.S. History for Digital Projects for the Public: Production Grants, submitted to the Division of Public Programs.

5. Date: September 12, 2016.

This meeting will discuss applications for the Humanities Initiatives at Hispanic-Serving Institutions grant program, submitted to the Division of Education Programs.

6. Date: September 13, 2016.

This meeting will discuss applications for the Humanities Initiatives at Historically Black Colleges and Universities grant program, submitted to the Division of Education Programs.

7. Date: September 13, 2016.

This meeting will discuss applications on the subjects of World History and Culture for Digital Projects for the Public: Production Grants, submitted to the Division of Public Programs.

8. Date: September 14, 2016.

This meeting will discuss applications on the subject of U.S. History for Digital Projects for the Public: Production Grants, submitted to the Division of Public Programs.

9. Date: September 14, 2016.

This meeting will discuss applications for the Humanities Initiatives at Tribal Colleges and Universities grant program, submitted to the Division of Education Programs.

Because these meetings will include review of personal and/or proprietary financial and commercial information given in confidence to the agency by grant applicants, the meetings will be closed to the public pursuant to sections 552b(c)(4) and 552b(c)(6) of Title 5, U.S.C., as amended. The Committee Management Officer, Elizabeth Voyatzis, has made this determination pursuant to the authority granted her by the Chairman's Delegation of Authority to Close Advisory Committee Meetings dated April 15, 2016.

Dated: August 8, 2016.
Michael P. McDonald,
General Counsel and Federal Register Liaison Officer.

[FR Doc. 2016-19204 Filed 8-11-16; 8:45 am]

BILLING CODE 7536-01-P